DEPARTMENT OF HOMELAND SECURITY

Federal Emergency Management Agency

[Docket ID FEMA-2020-0002; Internal Agency Docket No. FEMA-B-2041]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Maricopa | City of Buckeye (20-09-1324P). | The Honorable Jackie A. Meck, Mayor, City of Buckeye, 530 East Monroe Avenue, Buckeye, AZ 85326. | Engineering Department, 530 East Monroe Avenue, Buckeye, AZ 85326. | https://msc.fema.gov/portal/advanceSearch. | Oct. 2, 2020 | 040039
Maricopa | City of Chandler (19-09-1713P). | The Honorable Kevin Hartke, Mayor, City of Chandler, 175 South Arizona Avenue, Chandler, AZ 85225. | Transportation & Development Department, 215 East Buffalo Street, Chandler, AZ 85225. | https://msc.fema.gov/portal/advanceSearch. | Oct. 2, 2020 | 040040
Maricopa | City of Glendale (20-09-1322P). | The Honorable Jerry Weiers, Mayor, City of Glendale, 5850 West Glendale Avenue, Glendale, AZ 85301. | City Hall, 5850 West Glendale Avenue, Glendale, AZ 85301. | https://msc.fema.gov/portal/advanceSearch. | Oct. 2, 2020 | 040045
Maricopa | City of Peoria (20-09-1322P). | The Honorable Cathy Carlat, Mayor, City of Peoria, 8401 West Monroe Street, Peoria, AZ 85345. | City Hall, 8401 West Monroe Street, Peoria, AZ 85345. | https://msc.fema.gov/portal/advanceSearch. | Oct. 2, 2020 | 040050
Maricopa | City of Surprise (20-09-1326P). | The Honorable Skip Hall, Mayor, City of Surprise, 16000 North Civic Center Plaza, Surprise, AZ 85374. | Public Works Department, Engineering Development Services, 16000 North Civic Center Plaza, Surprise, AZ 85374. | https://msc.fema.gov/portal/advanceSearch. | Oct. 9, 2020 | 040053
Maricopa | Town of Fountain Hills (20-09-1325P). | The Honorable Ginny Dickey, Mayor, Town of Fountain Hills, 16705 East Avenue of the Fountains, Fountain Hills, AZ 85268. | Town Hall, 16705 East Avenue of the Fountains, Fountain Hills, AZ 85268. | https://msc.fema.gov/portal/advanceSearch. | Oct. 1, 2020 | 040135
Maricopa | Unincorporated Areas of Maricopa County (20-09-1322P). | The Honorable Clinton L. Hickman, Chairman, Board of Supervisors, Maricopa County, 301 West Jefferson Street, 10th Floor, Phoenix, AZ 85003. | Flood Control District of Maricopa County, 2801 West Durango Street, Phoenix, AZ 85009. | https://msc.fema.gov/portal/advanceSearch. | Oct. 2, 2020 | 040037
Yavapai | Town of Prescott Valley (20-09-0224P). | The Honorable Kell Palguta, Mayor, Town of Prescott Valley, Civic Center, 7501 East Skoog Boulevard, 4th Floor, Prescott Valley, AZ 86314. | Town Hall, Engineering Division, 7501 East Civic Circle, Prescott Valley, AZ 86314. | https://msc.fema.gov/portal/advanceSearch. | Sep. 21, 2020 | 040121
California:
Plumas | Unincorporated Areas of Plumas County (19-09-2233P). | The Honorable Kevin Goss, Chairman, Board of Supervisors, Plumas County, 520 Main Street, Room 309, Quincy, CA 95971. | Plumas County Courthouse, 520 Main Street, Quincy, CA 95971. | https://msc.fema.gov/portal/advanceSearch. | Oct. 9, 2020 | 060244
Riverside | City of Moreno Valley (20-09-0154P). | The Honorable Yxstian A. Gutierrez, Mayor, City of Moreno Valley, 14177 Frederick Street, Moreno Valley, CA 92553. | Public Works Department, 14177 Frederick Street, Moreno Valley, CA 92553. | https://msc.fema.gov/portal/advanceSearch. | Sep. 25, 2020 | 065074
Ventura | City of Thousand Oaks (19-09-1687P). | The Honorable Al Adam, Mayor, City of Thousand Oaks, 2100 Thousand Oaks Boulevard, Thousand Oaks, CA 91362. | City Hall, 2100 East Thousand Oaks Boulevard, Thousand Oaks, CA 91362. | https://msc.fema.gov/portal/advanceSearch. | Oct. 8, 2020 | 060422
Florida:
Duval | City of Jacksonville (20-04-0139P). | The Honorable Lenny Curry, Mayor, City of Jacksonville, 117 West Duval Street, Suite 400, Jacksonville, FL 32202. | City Hall, 117 West Duval Street, Jacksonville, FL 32202. | https://msc.fema.gov/portal/advanceSearch. | Sep. 25, 2020 | 120077
Pasco | Unincorporated Areas of Pasco County (19-04-6976P). | Mr. Mike Moore, Chairman, Pasco County, Board of County Commissioners, 8731 Citizens Drive, New Port Richey, FL 34654. | Pasco County Development Services Branch, 8731 Citizens Drive, New Port Richey, FL 34654. | https://msc.fema.gov/portal/advanceSearch. | Sep. 18, 2020 | 120230
Illinois:
Kane | City of Aurora (20-05-2946P). | The Honorable Richard C. Irvin, Mayor, City of Aurora, 44 East Downer Place, 3rd Floor, Aurora, IL 60505. | City Hall, Engineering Department, 44 East Downer Place, Aurora, IL 60505. | https://msc.fema.gov/portal/advanceSearch. | Sep. 25, 2020 | 170320
Kane | Unincorporated Areas of Kane County (20-05-2947P). | The Honorable Christopher Lauzen, Chairman, Kane County Board, Kane County Government Center, Building A, 719 South Batavia Avenue, Geneva, IL 60134. | Kane County Government Center, Building A, Water Resources Department, 719 South Batavia Avenue, Geneva, IL 60134. | https://msc.fema.gov/portal/advanceSearch. | Sep. 25, 2020 | 170896
Lake | Village of Riverwoods (20-05-1123P). | The Honorable John W. Norris, Mayor, Village of Riverwoods, 300 Portwine Road, Riverwoods, IL 60015. | Village Hall, 300 Portwine Road, Riverwoods, IL 60015. | https://msc.fema.gov/portal/advanceSearch. | Jul. 17, 2020 | 170387
Idaho:
Ada | City of Eagle (19-10-0717P). | The Honorable Jason Pierce, Mayor, City of Eagle, City Hall, 660 East Civic Lane, Eagle, ID 83616. | City Hall, 660 East Civic Lane, Eagle, ID 83616. | https://msc.fema.gov/portal/advanceSearch. | Sep. 25, 2020 | 160003
Ada | Unincorporated Areas of Ada County (19-10-0717P). | The Honorable Kendra Kenyon, Chair, Board of Ada County Commissioners Ada County Courthouse, 200 West Front Street, 3rd Floor, Boise, ID 83702. | Ada County Courthouse, 200 West Front Street, Boise, ID 83702. | https://msc.fema.gov/portal/advanceSearch. | Sep. 25, 2020 | 160001
Allen | City of Fort Wayne (20-05-2000P). | The Honorable Tom Henry, Mayor, City of Fort Wayne, Citizens Square Building, 200 East Berry Street Suite 420, Fort Wayne, IN 46802. | Department of Planning Services, 200 East Berry Street, Suite 150, Fort Wayne, IN 46802. | https://msc.fema.gov/portal/advanceSearch. | Oct. 8, 2020 | 180003
Indiana:
LaPorte | City of La Porte (19-05-4383P). | The Honorable Tom Dermody, Mayor, City of La Porte, 801 Michigan Avenue, LaPorte, IN 46350. | City Hall, 801 Michigan Avenue, LaPorte, IN 46350. | https://msc.fema.gov/portal/advanceSearch. | Sep. 25, 2020 | 180490
LaPorte | Unincorporated Areas of LaPorte County (19-05-4383P). | Ms. Sheila Matias, President, Commissioner, 555 Michigan Avenue Suite 202, LaPorte, IN 46350. | LaPorte County Plan Commission, County Government Complex, Suite 503A, 809 State Street, La Porte, IN 46350. | https://msc.fema.gov/portal/advanceSearch. | Sep. 25, 2020 | 180144
Scott | Unincorporated Areas of Scott County (19-05-2009P). | Mr. Robert Tobias, President, County Commissioner District 1, Scott County Courthouse Suite 130, 1 East McClain Avenue, Scottsburg, IN 47170. | Scott County Area Plan Commission, 1 East McClain Avenue, Suite G40, Scottsburg, IN 47170. | https://msc.fema.gov/portal/advanceSearch. | Jul. 16, 2020 | 180474
Michigan:
Kent | City of Kentwood (19-05-5009P). | The Honorable Stephen Kepley, Mayor, City of Kentwood, P.O. Box 8848, Kentwood, MI 49518. | City Hall, 4900 Breton Avenue Southeast, Kentwood, MI 49508. | https://msc.fema.gov/portal/advanceSearch. | Oct. 9, 2020 | 260107
Wayne | Charter Township of Brownstown (19-05-2936P). | The Honorable Andrew Linko, Supervisor, Charter Township of Brownstown 21313 Telegraph Road, Brownstown, MI 48183. | Charter Township Offices, 21313 Telegraph Road, Brownstown, MI 48183. | https://msc.fema.gov/portal/advanceSearch. | Sep. 24, 2020 | 260218
Wayne | City of Taylor (19-05-2936P). | The Honorable Rick Sollars, Mayor, City of Taylor, Municipal Offices, 23555 Goddard Road, Taylor, MI 48180. | Department of Public Works, 25605 Northline Road, Taylor, MI 48180. | https://msc.fema.gov/portal/advanceSearch. | Sep. 24, 2020 | 260728
Nebraska:
Hall | City of Grand Island (19-07-1260P). | The Honorable Roger Steele, Mayor, City of Grand Island, City Hall, 100 East 1st Street, Grand Island, NE 68801. | Regional Planning Department, 100 East 1st Street, Grand Island, NE 68801. | https://msc.fema.gov/portal/advanceSearch. | Sep. 25, 2020 | 310103
Hall | Unincorporated Areas of Hall County (19-07-1260P). | The Honorable Pamela E. Lancaster, Chair, Hall County Board of County Commissioners Administration Building, 121 Street Pine Street, Grand Island, NE 68801. | Hall County Regional Planning Department, 100 East 1st Street, Grand Island, NE 68801. | https://msc.fema.gov/portal/advanceSearch. | Sep. 25, 2020 | 310100
Nevada:
Clark | City of Mesquite (20-09-1320P). | The Honorable Allan Litman, Mayor, City of Mesquite, 10 East Mesquite Boulevard, Mesquite, NV 89027. | Office of The City Engineer, 10 East Mesquite Boulevard, Mesquite, NV 89027. | https://msc.fema.gov/portal/advanceSearch. | Oct. 5, 2020 | 320035
Nye | Unincorporated Areas of Nye County (20-09-1321P). | The Honorable John Koenig, Chairman, Board of Commissioners, Nye County, 2100 East Walt Williams Drive, Suite 100, Pahrump, NV 89048. | Nye County Department of Planning, 250 North Highway 160 Suite 1, Pahrump, NV 89060. | https://msc.fema.gov/portal/advanceSearch. | Oct. 1, 2020 | 320018
New Jersey:
Union | Borough of Roselle (20-02-0602X). | The Honorable Christine Dansereau, Mayor, Borough of Roselle, Borough Hall, 210 Chestnut Street, Roselle, NJ 07203. | Borough Municipal Building, 210 Chestnut Street, Roselle, NJ 07203. | https://msc.fema.gov/portal/advanceSearch. | Sep. 25, 2020 | 340472
New York:
Nassau | Town of North Hempstead (19-02-1366P). | The Honorable Judi Bosworth, Supervisor, Town of North Hempstead, Town Hall, 220 Plandome Road, Manhasset, NY 11030. | Town Hall, 220 Plandome Road, Manhasset, NY 11030. | https://msc.fema.gov/portal/advanceSearch. | Nov. 20, 2020 | 360482
Texas:
Dallas | City of Dallas (19-06-3571P). | The Honorable Eric Johnson, Mayor, City of Dallas, 1500 Marilla Street, Room 5EN, Dallas, TX 75201. | Trinity Watershed Management Department, Flood Plain and Drainage Management, 320 East Jefferson Blvd. Room 307, Dallas, TX 75203. | https://msc.fema.gov/portal/advanceSearch. | Sep. 18, 2020 | 480171
Dallas | City of Dallas (20-06-0582P). | The Honorable Eric Johnson, Mayor, City of Dallas, 1500 Marilla Street, Room 5EN, Dallas, TX 75201. | Trinity Watershed Management Department, Flood Plain and Drainage Management, 320 East Jefferson Blvd. Room 307, Dallas, TX 75203. | https://msc.fema.gov/portal/advanceSearch. | Oct. 8, 2020 | 480171
Dallas | Town of Highland Park (19-06-3290P). | The Honorable Margo Goodwin, Mayor, Town of Highland Park, 4700 Drexel Drive, Highland Park, TX 75205. | Engineering Department, 4700 Drexel Drive, Highland Park, TX 75205. | https://msc.fema.gov/portal/advanceSearch. | Sep. 18, 2020 | 480178
Tarrant | City of Arlington (18-06-3756P). | The Honorable Jeff Williams, Mayor, City of Arlington, City Hall, P.O. Box 90231, Arlington, TX 76010. | City Hall, 101 West Abram Street, Arlington, TX 76010. | https://msc.fema.gov/portal/advanceSearch. | Sep. 25, 2020 | 485454
Tarrant | City of Fort Worth (18-06-3756P). | The Honorable Betsy Price, Mayor, City of Fort Worth, 200 Texas Street, Fort Worth, TX 76102. | Department of Transportation and Public Works, 200 Texas Street, Fort Worth, TX 76102. | https://msc.fema.gov/portal/advanceSearch. | Sep. 25, 2020 | 480596
Washington:
Clark | City of Vancouver (20-10-0406P). | The Honorable Anne McEnerny-Olge, Mayor, City of Vancouver, City Hall, 415 West 6th Street, Vancouver, WA 98660. | City Hall, 415 West 6th Street, Vacouver, WA 98660. | https://msc.fema.gov/portal/advanceSearch. | Sep. 18, 2020 | 530027
Mason | Unincorporated Areas of Mason County (20-10-0789P). | The Honorable Sharon Trask, Chair, Board of Commissioners, Mason County, 411 North 5th Street, Shelton, WA 98584. | Mason County Public Works, 100 West Public Works Drive, Shelton, WA 98584. | https://msc.fema.gov/portal/advanceSearch. | Oct. 16, 2020 | 530115
Wisconsin:
Brown | Unincorporated Areas of Brown County (19-05-3386P). | The Honorable Patrick Moynihan, Jr., Chair, County Board of Supervisors, Brown County, 305 East Walnut Street, Green Bay, WI 54305. | Brown County, Zoning Office, 305 East Walnut Street, Green Bay, WI 54305. | https://msc.fema.gov/portal/advanceSearch. | Sep. 18, 2020 | 550020
Milwaukee | City of West Allis (20-05-2969X). | The Honorable Dan Devine, Mayor, City of West Allis, 7525 West Greenfield Avenue, West Allis, WI 53214. | City Hall, 7525 West Greenfield Avenue, West Allis, WI 53214. | https://msc.fema.gov/portal/advanceSearch. | Oct. 15, 2020 | 550285
Waukesha | City of Brookfield (20-05-1573P). | The Honorable Steven V. Ponto, Mayor, City of Brookfield, 2000 North Calhoun Road, Brookfield, WI 53005. | City Hall, 2000 North Calhoun Road, Brookfield, WI 53005. | https://msc.fema.gov/portal/advanceSearch. | Sep. 24, 2020 | 550478

[FR Doc. 2020-14892 Filed 7-9-20; 8:45 am]

BILLING CODE 9110-12-P